DEPARTMENT OF THE INTERIOR

Bureau of Ocean Energy Management

[Docket No. BOEM-2023-0042]

Notice of Availability of a Final Environmental Assessment for a Wind Energy Research Lease on the Atlantic Outer Continental Shelf Offshore Maine

AGENCY: Bureau of Ocean Energy Management, Interior.

ACTION: Notice of availability.

SUMMARY: The Bureau of Ocean Energy Management (BOEM) announces the availability of the final environmental assessment (EA) for the potential issuance of a wind energy research lease to the State of Maine. The final EA analyzes the potential environmental impacts of the site characterization and site assessment activities that are expected to take place should this research lease be issued. This notice of availability (NOA) announces the availability of the final EA. The final EA will inform BOEM's decision whether to issue the research lease.

FOR FURTHER INFORMATION CONTACT: Brandi Sangunett, BOEM Office of Renewable Energy Programs, 45600 Woodland Road, Sterling, Virginia 20166, (703) 787-1015 or brandi.sangunett@boem.gov.

SUPPLEMENTARY INFORMATION:

Proposed Action: The final EA considers reasonably foreseeable environmental consequences of routine and non-routine activities associated with issuance of a wind energy research lease and related site assessment and site characterization activities within and around the lease and potential future project easements. The State of Maine provided information about planned site assessment and site characterization activities including the general location, timing, and frequency of the activities and the types of equipment and vessels likely to be used. BOEM has identified standard operating conditions (SOCs) and mitigation to reduce or eliminate the potential risks to or conflicts with specific environmental resources. These SOCs and mitigation were developed through the analyses presented in Section 3 of the final EA and through consultations with other Federal agencies. A summary of the SOCs and mitigation are listed in Appendix D of the final EA. If the research lease is issued, BOEM will require the lessee to comply with the SOCs and mitigation through lease stipulations and/or as conditions of the Site Assessment Plan and Research Activities Plan approval. This EA does not consider construction and operation of any wind energy-related research facilities within the Gulf of Maine, which, if proposed, would be evaluated by BOEM as a separate NEPA action.

Alternatives: In addition to the Proposed Action, BOEM considered a No Action Alternative. Under the No Action Alternative, BOEM would not issue a wind energy research lease to the State of Maine and site assessment activities would not occur within the leased area of the Gulf of Maine. BOEM's preferred alternative is the Proposed Action.

Finding of No Significant Impact: After carefully considering alternatives described and analyzed in the final EA and comments from the public and cooperating and consulting agencies on the draft EA, BOEM finds that the issuance of a wind energy research lease within the proposed lease area offshore Maine and related site characterization and site assessment activities would have no significant impact on the environment.

Availability of the Final EA: The final EA and associated information are available on BOEM's website at: https://www.boem.gov/renewable-energy/state-activities/maine/gulf-maine.

Authority: This NOA is published in accordance with regulations at 42 U.S.C. 4231 et seq. (NEPA, as amended) and 40 CFR 1506.6.

Karen Baker,
Chief, Office of Renewable Energy Programs, Bureau of Ocean Energy Management.

[FR Doc. 2024-11766 Filed 5-28-24; 8:45 am]

BILLING CODE 4340-98-P